NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 15, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

e-mail: records.mgt@nara.gov.

FAX: (301) 837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. e-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

(1) Department of the Air Force, Agency-wide (N1-AFU-03-23, 2 items, 2 temporary items). Test materials and other records used in agency distance learning programs. Electronic copies of records created using electronic mail and word processing are also included.

(2) Department of the Air Force, Agency-wide (N1-AFU-03-9, 10 items, 10 temporary items). Certificate management authority records required for operating a public key infrastructure for digital signatures. Included are such records as certificate practice statements, contractual agreements, system equipment configuration records, certificate and revocation requests, subscriber identity authentications, documentation of receipt and acceptance of certificates, certificate revocation lists, and security audit records. Also included are electronic copies of records created using electronic mail and word processing. The schedule authorizes the agency to apply the proposed disposition instructions to any recordkeeping medium.

(3) Department of the Army, Agency-wide (N1-AU-04-8, 3 items, 3 temporary items). Records relating to the agency's program to maximize the quality and integrity of the information it provides to the public. Included are such records as registers, routine notices, memorandums, standards, procedures, and guidelines. Also included are electronic copies of documents created using electronic mail and word processing. This schedule authorizes the agency to apply the proposed disposition instructions to any recordkeeping medium.

(4) Department of Transportation, Bureau of Transportation Statistics (N1-398-04-1, 3 items, 1 temporary item). First, second, and third quarter electronic data regarding passenger flights. Proposed for permanent retention are the cumulative fourth quarter data and the related documentation.

(5) Department of Transportation, Bureau of Transportation Statistics (N1-398-04-12, 5 items, 4 temporary items). Speeches and testimony given by agency officials other than the Director and Deputy Director. Also included are electronic copies of records created using electronic mail and word processing. Proposed for permanent retention are recordkeeping copies of speeches and testimony by the Director and Deputy Director. This schedule authorizes the agency to apply the proposed disposition instructions to any recordkeeping medium.

(6) Department of Transportation, Bureau of Transportation Statistics (N1-398-04-13, 6 items, 5 temporary items). Press release background materials and newspaper clippings. Also included are electronic copies of records created using electronic mail and word processing. Proposed for permanent retention are recordkeeping copies of press releases and fact sheets. This schedule authorizes the agency to apply the proposed disposition instructions to any recordkeeping medium.

(7) Department of Transportation, Bureau of Transportation Statistics (N1-398-04-14, 6 items, 5 temporary items). Routine publications, promotional items, and associated working papers. Also included are electronic copies of records created using electronic mail and word processing. Proposed for permanent retention are recordkeeping copies of mission-related publications and promotional items. This schedule authorizes the agency to apply the proposed disposition instructions to any recordkeeping medium.

(8) Department of the Treasury, Internal Revenue Service (N1-58-04-5, 7 items, 7 temporary items). Administrative files and closed legal case files accumulated in the Office of the Associate Chief Counsel (General Legal Services), including area offices in the field. Also included are electronic copies of records created using electronic mail and word processing.

(9) Department of the Treasury, Internal Revenue Service (N1-58-04-6, 1 item, 1 temporary item). Audio digital recordings and screen image captures used to randomly review the customer service provided to the public by agency taxpayer assistors.

(10) National Commission on Libraries and Information Science, Administration (N1-220-04-4, 20 items, 18 temporary items). Administrative records relating to such matters as personnel management, travel, mailing lists, delegations of authority, records management, space planning, and stationery. Also included are electronic copies of documents created using word processing and electronic mail. Proposed for permanent retention are recordkeeping copies of records relating to nominations and appointments to the Commission and the use of the Commission seal.

(11) National Commission on Libraries and Information Science, Budget and Finance (N1-220-04-5, 2 items, 1 temporary item). Electronic spreadsheets relating to budgetary and financial matters. Proposed for permanent retention are recordkeeping copies of annual budget files.

(12) National Commission on Libraries and Information Science, Sister Library Program (N1-220-04-6, 10 items, 8 temporary items). Records relating to the Sister Library Program, including such files as applications, a database used to manage applications and contacts, and electronic copies of documents created using word processing and electronic mail. Proposed for permanent retention are recordkeeping copies of general subject files and samples of materials produced by participant libraries.

(13) National Commission on Libraries and Information Science, White House Conference on Libraries and Information Services (N1-220-04-7, 16 items, 9 temporary items). Records of the second White House Conference on Libraries and Information Sciences held during the administration of President George H. W. Bush. Included are records relating to such subjects as travel, printing, and other administrative matters, copies of informational materials, and electronic copies of records created using electronic mail and word processing. Also included are some records that both pre-date and post-date the conference. Proposed for permanent retention are recordkeeping copies of such records as program files, audiovisual materials, and hearing and open forum files.

Dated: September 20, 2004.
Michael J. Kurtz,
Assistant Archivist for Records Services—Washington, DC.

[FR Doc. 04-21769 Filed 9-28-04; 8:45 am]

BILLING CODE 7515-01-P